DEPARTMENT OF TRANSPORTATION

Federal Aviation Administration

14 CFR Part 71

[Docket No. FAA-2020-0497; Airspace Docket No. 20-ASO-1]

RIN 2120-AA66

Amendment of V-5 and V-178, and Revocation of V-513 in the Vicinity of New Hope, KY

AGENCY: Federal Aviation Administration (FAA), DOT.

ACTION: Final rule; withdrawal.

SUMMARY: This action withdraws the final rule published in the Federal Register on October 26, 2020. In that action, the FAA amends VHF Omnidirectional Range (VOR) Federal airways V-5 and V-178 in the vicinity of New Hope, KY, and removes V-513 in its entirety due to the planned decommissioning of the VOR portion of the New Hope, KY, VOR/Distance Measuring Equipment (VOR/DME) navigation aid. The FAA has determined that withdrawal of the final rule is warranted since there has been a change in the date for the decommissioning of the New Hope, KY, VOR.

DATES: Effective date 0901 UTC, November 16, 2020, the final rule published October 26, 2020 (85 FR 67649), is withdrawn.

FOR FURTHER INFORMATION CONTACT: Colby Abbott, Rules and Regulations Group, Office of Policy, Federal Aviation Administration, 800 Independence Avenue SW, Washington, DC 20591; telephone: (202) 267-8783.

SUPPLEMENTARY INFORMATION:

History

The FAA published a final rule in the Federal Register for Docket No. FAA-2020-0497 (85 FR 67649, October 26, 2020) amending Title 14 Code of Federal Regulations (14 CFR) part 71 by modifying VOR Federal airways V-5 and V-178 in the vicinity of New Hope, KY, and removing V-513 in its entirety due to the planned decommissioning of the New Hope, KY, VOR. Subsequent to publication, the FAA determined that the New Hope, KY, VOR navigation aid will not be decommissioned at this time. As a result, the final rule is being withdrawn.

Lists of Subjects in 14 CFR Part 71

Airspace, Incorporation by reference, Navigation (air).

The Withdrawal

Accordingly, pursuant to the authority delegated to me, the final rule published in the Federal Register on October 26, 2020 (85 FR 67649), FR Doc. 2020-23377, is hereby withdrawn.

Authority: 49 U.S.C. 106(f), 106(g); 40103, 40113, 40120; E.O. 10854, 24 FR 9565, 3 CFR, 1959-1963 Comp., p. 389.

Issued in Washington, DC, on November 9, 2020.
George Gonzalez,
Acting Manager, Airspace and Rules Group.

[FR Doc. 2020-25164 Filed 11-13-20; 8:45 am]

BILLING CODE 4910-13-P